FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Consumer Satisfaction Questionnaire, the Federal Reserve Consumer Help—Consumer Survey, the Consumer Online Complaint Form, and the Appraisal Complaint Form (FR 1379a, b, c, and d; OMB No. 7100-0135).

FOR FURTHER INFORMATION CONTACT: Federal Reserve Board Clearance Officer—Nuha Elmaghrabi—Office of the Chief Data Officer, Board of Governors of the Federal Reserve System, Washington, DC 20551, (202) 452-3829. Office of Management and Budget (OMB) Desk Officer—Shagufta Ahmed—Office of Information and Regulatory Affairs, Office of Management and Budget, New Executive Office Building, Room 10235, 725 17th Street NW, Washington, DC 20503, or by fax to (202) 395-6974.

A copy of the Paperwork Reduction Act (PRA) OMB submission, including the reporting form and instructions, supporting statement, and other documentation will be placed into OMB's public docket files. These documents also are available on the Federal Reserve Board's public website at https://www.federalreserve.gov/apps/reportforms/review.aspx or may be requested from the agency clearance officer, whose name appears above.

SUPPLEMENTARY INFORMATION: On June 15, 1984, OMB delegated to the Board authority under the PRA to approve and assign OMB control numbers to collections of information conducted or sponsored by the Board. Board-approved collections of information are incorporated into the official OMB inventory of currently approved collections of information. Copies of the PRA Submission, supporting statements, and approved collection of information instrument(s) are placed into OMB's public docket files.

Final Approval Under OMB Delegated Authority of the Extension for Three Years, Without Revision, of the Following Information Collection

Report title: Consumer Satisfaction Questionnaire, the Federal Reserve Consumer Help—Consumer Survey, the Consumer Online Complaint Form, and the Appraisal Complaint Form.

Agency form number: FR 1379a, FR 1379b, FR 1379c, and FR 1379d.

OMB control number: 7100-0135.

Frequency: Event generated.

Respondents: Consumers, appraisers, and financial institutions.

Estimated number of respondents: FR 1379a, 551; FR 1379b, 1,455; FR 1379c, 6,719; FR 1379d, 7.

Estimated average hours per response: FR 1379a, 5 minutes; FR 1379b, 5 minutes; FR 1379c, 10 minutes; FR 1379, 30 minutes.

Estimated annual burden hours: FR 1379a, 46 hours; FR 1379b, 121 hours; FR 1379c, 1,120 hours; FR 1379d, 4 hours.

General description of report: The FR 1379a is sent to consumers who have filed complaints with the Federal Reserve against state member banks or other financial institutions supervised by the Federal Reserve. The information is used to assess the satisfaction of the consumers with the Federal Reserve's handling of, and written response to, their complaints at the conclusion of an investigation. The FR 1379b is a survey sent to consumers who contact the Federal Reserve Consumer Help [desk] (FRCH) ¹ to file a complaint or inquiry. The information is used to determine whether consumers are satisfied with the way the FRCH handled their complaint. The FR 1379c collection addresses the burden associated with consumers electronically submitting a complaint against a financial institution to the FRCH. The FR 1379d collects information about complaints regarding a regulated institution's non-compliance with the appraisal independence standards and the Uniform Standards of Professional Appraisal Practice, including complaints from appraisers, individuals, financial institutions, and other entities.

¹ See www.federalreserveconsumerhelp.gov/.

Legal authorization and confidentiality: The FR 1379 family of forms is authorized pursuant to section 8 of the Federal Deposit Insurance Act (Section 8) ² and section 11(a) of the Federal Reserve Act (Section 11(a)).³ Section 8 provides the Board broad authority to enforce compliance with laws against entities within its jurisdiction, including state member banks. Section 11(a) broadly empowers the Board to examine “the affairs of each Federal reserve bank and of each member bank.” ⁴ The Board uses the information obtained from the FR 1379 to help fulfill these obligations. The forms comprising the FR 1379 family of forms are voluntary. Individual respondents may request that information submitted to the Board through the FR 1379 family of forms be kept confidential on a case-by-case basis. The Consumer Satisfaction Questionnaire (FR 1379a) does not collect any personal information from the respondent and is not likely to be considered confidential. Three of the forms (the FRCH—Consumer Survey (FR 1379b), Consumer Online Complaint Form (FR 1379c), and Appraisal Complaint Form (FR 1379d)) collect personal information, such as the respondent's name, contact information, and information regarding the subject of the complaint. This personal information may be kept confidential under exemption 6 of the FOIA to the extent disclosure of such information would constitute an unwarranted invasion of personal privacy.⁵ In addition, information concerning the subject of a complaint may be kept confidential under exemption 4 of the FOIA to the extent it involves trade secrets and confidential commercial and financial information.⁶ With respect to the Consumer Online Complaint Form (FR 1379c) and Appraisal Complaint Form (FR 1379d), determinations regarding disclosure of the information to third parties of any confidential portions of these forms would be made in accordance with the Privacy Act.⁷ A hyperlink directing the applicant to the relevant Privacy Act statement is provided in these forms on the Board's website.

² 12 U.S.C. 1818.

³ 12 U.S.C. 248(a).

⁴ The FR 1379d is additionally authorized pursuant to Title XI of the Financial Institutions Reform, Recovery, and Enforcement Act of 1989, which requires the Board to prescribe standards for appraisals used by its regulated entities. See, 12 U.S.C. 3331-3355.

⁵ 5 U.S.C. 552(b)(6).

⁶ 5 U.S.C. 552(b)(4).

⁷ 5 U.S.C. 552a(b).

Current actions: On September 10, 2019, the Board published a notice in the Federal Register (84 FR 47507) requesting public comment for 60 days on the extension, without revision, of the FR 1379. The comment period for this notice expired on November 12, 2019. The Board did not receive any comments.

Board of Governors of the Federal Reserve System, December 11, 2019.
Ann Misback,
Secretary of the Board.

[FR Doc. 2019-27038 Filed 12-13-19; 8:45 am]

BILLING CODE 6210-01-P